SECURITIES AND EXCHANGE COMMISSION

[Release No. IC-27418]

Notice of Applications for Deregistration Under Section 8(f) of the Investment Company Act of 1940

June 30, 2006.

The following is a notice of applications for deregistration under section 8(f) of the Investment Company Act of 1940 for the month of June 2006. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on July 25, 2006, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

FOR FURTHER INFORMATION CONTACT: Diane L. Titus at (202) 551-6810, SEC, Division of Investment Management, Office of Investment Company Regulation, 100 F Street, NE., Washington, DC 20549-4041.

Credit Suisse Target Return Fund [File No. 811-21617]

Summary: Applicant seeks an order declaring that it has ceased to be an investment company. By May 17, 2006, applicants' sole shareholder had redeemed its shares at net asset value. Expenses of $2,500 incurred in connection with the liquidation were paid by applicant's investment adviser, Credit Suisse Asset Management, LLC, or its sister companies.

Filing Dates: The application was filed on May 24, 2006, and amended on June 27, 2006.

Applicant's Address: 466 Lexington Ave., New York, NY 10017-3140.

Gold Bank Funds [File No. 811-10465]

Summary: Applicant seeks an order declaring that it has ceased to be an investment company. On February 17, 2006 and April 7, 2006, applicant made liquidating distributions to its shareholders, based on net asset value. Expenses of $33,197 incurred in connection with the liquidation were paid by applicant and its investment advisers, Gold Capital Management, Inc. and M&I Investment Management Corp.

Filing Dates: The application was filed on June 2, 2006, and amended on June 27, 2006.

Applicant's Address: 6860 W. 115th, Suite 100, Overland Park, KS 66211.

The Galaxy Fund [File No. 811-4636]

Summary: Applicant seeks an order declaring that it has ceased to be an investment company. On November 21, 2005 and November 23, 2005, applicant transferred its assets to corresponding portfolios of Columbia Funds Series Trust, based on net asset value. Expenses of $936,930 incurred in connection with the reorganization were paid by Columbia Management Advisors, LLC, applicant's investment adviser.

Filing Dates: The application was filed on April 20, 2006, and amended on June 22, 2006.

Applicant's Address: One Financial Center, Boston, MA 02111.

The BlackRock Advantage Term Trust Inc. [File No. 811-5757]

Summary: Applicant, a closed-end investment company, seeks an order declaring that it has ceased to be an investment company. On December 29, 2005, applicant made a liquidating distribution to its shareholders, based on net asset value. Expenses of $18,500 incurred in connection with the liquidation were paid by applicant. Applicant has transferred $300,000 in cash to a liquidating trust to pay applicant's remaining liabilities. The trustees of the liquidating trust intend to distribute any remaining cash to applicant's former shareholders within one year of the liquidation.

Filing Date: The application was filed on May 15, 2006.

Applicant's Address: 100 Bellevue Parkway, Wilmington, DE 19809.

Income Trust [File No. 811-7307]

Growth and Income Trust [File No. 811-7393]

Growth Trust [File No. 811-7395]

Summary: Each applicant, a master fund in a master/feeder arrangement, seeks an order declaring that it has ceased to be an investment company. Between October 18, 2005 and March 9, 2006, each applicant's shareholders redeemed all their shares at net asset values. Expenses of $14,670, $19,560 and $9,780, respectively, incurred in connection with the liquidations were paid by Ameriprise Financial, Inc., applicants' investment adviser.

Filing Date: The applications were filed on May 24, 2006.

Applicant's Address: 901 Marquette Ave. South, Suite 2810, Minneapolis, MN 55402-3268.

Allmerica Securities Trust [File No. 811-2338]

Summary: Applicant, a closed-end investment company, seeks an order declaring that it has ceased to be an investment company. On May 12, 2006, applicant made a liquidating distribution to its shareholders, based on net asset value. The Bank of New York, applicant's paying agent, is holding the remaining fund assets for distribution to shareholders holding share certificates. Any liquidating distributions not claimed by a certificated shareholder will be escheated by the paying agent in accordance with relevant state law. Expenses of approximately $155,000 incurred in connection with the liquidation have been or will be paid by applicant. Applicant has retained $132,102 in cash in a custodial account to pay for expenses relating to the liquidation and other accrued or contingent liabilities.

Filing Date: The application was filed on May 12, 2006.

Applicant's Address: 440 Lincoln St., Worcester, MA 01653.

Scudder New Asia Fund, Inc. [File No. 811-4789]

Summary: Applicant, a closed-end investment company, seeks an order declaring that it has ceased to be an investment company. On April 17, 2006, applicant transferred its assets to DWS Emerging Markets Equity Fund, a series of DWS International Fund, Inc., based on net asset value. Expenses of $332,700 incurred in connection with the reorganization were paid by applicant.

Filing Dates: The application was filed on May 11, 2006, and amended on June 9, 2006.

Applicant's Address: 345 Park Avenue, New York, NY 10154.

Meeder Advisor Funds [File No. 811-6720]

Summary: Applicant seeks an order declaring that it has ceased to be an investment company. On November 13, 2003, applicant made a liquidating distribution to its shareholders, based on net asset value. Expenses of $1,465 incurred in connection with the liquidation were paid by applicant and Norwich Union Investment Management Limited, applicant's subadviser.

Filing Dates: The application was filed on July 8, 2004, and amended on June 13, 2006.

Applicant's Address: 6125 Memorial Dr., Dublin, OH 43017.

AIM Millennium Alternative Strategies Fund [File No. 811-10299]

Summary: Applicant, a closed-end investment company, seeks an order declaring that it has ceased to be an investment company. Applicant has never made a public offering of its securities and does not propose to make a public offering or engage in business of any kind.

Filing Dates: The application was filed on March 31, 2003, and amended on May 12, 2003 and June 12, 2006.

Applicant's Address: 11 Greenway Plaza, Suite 100, Houston, TX 77046-1173.

Runkel Funds, Inc. [File No. 811-21070]

Summary: Applicant seeks an order declaring that it has ceased to be an investment company. On October 20, 2005, applicant made a liquidating distribution to its shareholders, based on net asset value. Expenses of $4,087 incurred in connection with the liquidation were paid by Runkel Advisors, LLC, applicant's investment adviser, and Thomas J. Runkel, manager of applicant's investment adviser.

Filing Dates: The application was filed on December 7, 2005, and amended on February 3, 2006, March 10, 2006 and June 23, 2006.

Applicant's Address: 903 Chevy St., Belmont, CA 94002.

Legg Mason Cash Reserve Trust [File No. 811-2853]

Legg Mason Tax-Exempt Trust, Inc. [File No. 811-3526]

Summary: Each applicant seeks an order declaring that it has ceased to be an investment company. On February 28, 2006, each applicant made a liquidating distribution to its shareholders, based on net asset value. Expenses of $36,099 and $11,984, respectively, incurred in connection with the liquidations were paid by Legg Mason Fund Adviser, Inc., applicants' investment adviser.

Filing Date: The applications were filed on May 31, 2006.

Applicants' Address: 100 Light St., Baltimore, MD 21202.

Hart Life Insurance Company Separate Account One [File No. 811-9045]

Summary: Applicant, a separate account for variable annuities, seeks an order declaring that it has ceased to be an investment company. Applicant has never made a public offering of its securities, does not propose to make a public offering, and has never had any contractowners invested in the separate account.

Filing Date: The application was filed on April 25, 2006.

Applicant's Address: P.O. Box 2999, Hartford, CT 06104.

Hart Life Insurance Company Separate Account Two [File No. 811-9047]

Summary: Applicant, a separate account for variable life insurance, seeks an order declaring that it has ceased to be an investment company. Applicant has never made a public offering of its securities, does not propose to make a public offering, and has never had any contractowners invested in the separate account.

Filing Date: The application was filed on April 25, 2006.

Applicant's Address: P.O. Box 2999, Hartford, CT 06104.

ReliaStar Life Insurance Company of New York Variable Annuity Separate Account II [File No. 811-8965]

Summary: Applicant, a separate account for variable annuities, seeks an order declaring that it has ceased to be an investment company. Applicant has never made and does not propose to make a public offering of its securities, and it has never had any contractowners invested in the separate account.

Filing Dates: The application was filed on February 6, 2006, and amended on June 1, 2006.

Applicant's Address: 1000 Woodbury Road, Woodbury, New York 11797.

For the Commission, by the Division of Investment Management, pursuant to delegated authority.
Nancy M. Morris,
Secretary.

[FR Doc. E6-10683 Filed 7-7-06; 8:45 am]

BILLING CODE 8010-01-P